DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Electro-Motive Diesels, Inc.

(Waiver Petition Docket Number FRA-2007-0031)

The Electric-Motive Diesels, Inc. (EMD) seeks a temporary waiver of compliance from certain provisions of 49 CFR Part 232, Brake System Safety Standards for Freight and Other Non-Passenger Trains and Equipment. Specifically, the requirements for equipping new locomotives with the ability to display in “real-time” in the cab of the controlling (lead) locomotive the total train dynamic brake retarding force available in the train, as prescribed in § 232.309(g)(2).

EMD is making this request due to a shortage of a critical component required for the system. This will affect up to 40 locomotives that EMD will be delivering to BNSF Railway during January and February, 2008, that will not have the ability to communicate dynamic brake status with other locomotives in the consist. EMD states that this non-compliant condition will be corrected within 184 days, at the locomotive's second quarterly inspection. EMD states that they will provide the specific locomotive road numbers to FRA after the locomotives are shipped and will follow-up with notification when they are brought into compliance. In support of the waiver request, EMD notes that all of these units are equipped to display the train deceleration rate presently allowed as an alternative for rebuilt locomotives as prescribed in § 232.109(h)(2).

Communications received within 15 days of the date of this notice will be considered by FRA before final action is taken. Comments received after that date will be considered as far as practicable. Since this portion of the regulations did not become effective until late 2007, and only applies to new locomotives placed in service after October 2007, FRA reserves the right to grant temporary relief prior to the expiration of the comment period so that EMD may meet existing contracts. FRA expects the railroads to operate these non-compliant locomotives under the same requirements as prescribed in § 232.109, Dynamic Brake Requirements, for locomotives not equipped with the ability to display this real-time dynamic brake information to the locomotive engineer.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2007-0031) and may be submitted by any of the following methods:

Web site: http://www.regulations.gov. Follow the online instructions for submitting comments.

Fax: 202-493-2251.

Mail: Docket Operations Facility, U.S. Department of Transportation, 1200 New Jersey Avenue, SE., W12-140, Washington, DC 20590.

Hand Delivery: 1200 New Jersey Avenue, SE., Room W12-140, Washington, DC 20590, between 9 a.m. and 5 p.m., Monday through Friday, except Federal holidays.

All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on January 9, 2008.
Grady C. Cothen, Jr.,
Deputy Associate Administrator for Safety Standards and Program Development.

[FR Doc. E8-685 Filed 1-15-08; 8:45 am]

BILLING CODE 4910-06-P